DEPARTMENT OF THE INTERIOR

National Park Service

[NPS-WASO-NAGPRA-NPS0031018; PPWOCRADN0-PCU00RP14.R50000]

Notice of Inventory Completion: Laboratory of Anthropology at the University of Illinois at Urbana-Champaign, Champaign, IL

AGENCY: National Park Service, Interior.

ACTION: Notice.

SUMMARY: The Laboratory of Anthropology at the University of Illinois at Urbana-Champaign has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the University of Illinois at Urbana-Champaign NAGPRA Office. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the University of Illinois at Urbana-Champaign NAGPRA Office at the address in this notice by November 27, 2020.

ADDRESSES: Krystiana Krupa, NAGPRA Program Officer, University of Illinois at Urbana-Champaign, 412 Swanlund Administration Building, 601 E John Street, MC-304, Champaign, IL 61820, telephone (217) 244-2587, email klkrupa@illinois.edu.

SUPPLEMENTARY INFORMATION: Notice is here given in accordance with the Native American Graves Protection and Repatriation Act (NAGPRA), 25 U.S.C. 3003, of the completion of an inventory of human remains and associated funerary objects under the control of the Laboratory of Anthropology at the University of Illinois at Urbana-Champaign, Champaign, IL. The human remains and associated funerary objects were removed from Nickajack Cave, Marion County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Illinois at Urbana-Champaign professional staff in consultation with representatives of the Alabama-Coushatta Tribe of Texas (previously listed as Alabama-Coushatta Tribes of Texas); Cherokee Nation; Coushatta Tribe of Louisiana; Eastern Band of Cherokee Indians; The Chickasaw Nation; The Muscogee (Creek) Nation; and the United Keetoowah Band of Cherokee Indians in Oklahoma (hereafter referred to as “The Consulted Tribes”).

History and Description of the Remains

On an unknown date, human remains representing, at minimum, one individual were removed from Nickajack Cave in Marion County, TN. According to an accession card (Nickajack Cave A4782) dated November 1979, the Nickajack Cave materials were found by L.S. Ashley a few hundred yards from the cave entrance, on the margin of a creek flowing through Nickajack Cave, and comprised a collection of Virginia deer leg bones. In 2018, Laboratory of Anthropology staff located and identified a single human right humerus, likely from an adult of unknown sex, and two deer long bones associated with Nickajack Cave A4782. No known individuals were identified. The two associated funerary objects are two deer long bones.

Determinations Made by the Laboratory of Anthropology at the University of Illinois at Urbana-Champaign

Officials of the Laboratory of Anthropology at the University of Illinois at Urbana-Champaign have determined that:

• Pursuant to 25 U.S.C. 3001(9), the human remains described in this notice are Native American based on osteological evidence and collection history.

• Pursuant to 25 U.S.C. 3001(9), the human remains described in this notice represent the physical remains of one individual of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• The 1817 Treaty with the Cherokee (Land Cessions 84) and the 1819 Treaty with the Cherokee (Land Cessions 101 and 102) indicate that the land from which the Native American human remains and associated funerary objects were removed is the aboriginal land of the Cherokee Nation; Eastern Band of Cherokee Indians; and the United Keetoowah Band of Cherokee Indians in Oklahoma.

• Pursuant to 43 CFR 10.11(c)(1), the disposition of the human remains and associated funerary objects may be to the Cherokee Nation; Eastern Band of Cherokee Indians; and United Keetoowah Band of Cherokee Indians in Oklahoma (hereafter referred to as “The Tribes”).

Additional Requestors and Disposition

Representatives of any Indian Tribe or Native Hawaiian organization not identified in this notice that wish to request transfer of control of these human remains and associated funerary objects should submit a written request with information in support of the request to Krystiana Krupa, NAGPRA Program Officer, University of Illinois at Urbana-Champaign, 412 Swanlund Administration Building, 601 E John Street, MC-304, Champaign, IL 61820, telephone (217) 244-2587, email klkrupa@illinois.edu, by November 27, 2020. After that date, if no additional requestors have come forward, transfer of control of the human remains and associated funerary objects to The Tribes may proceed.

The Laboratory of Anthropology at the University of Illinois at Urbana-Champaign is responsible for notifying The Consulted Tribes that this notice has been published.

Dated: October 9, 2020.
Melanie O'Brien,
Manager, National NAGPRA Program.

[FR Doc. 2020-23828 Filed 10-27-20; 8:45 am]

BILLING CODE 4312-52-P